UNITED STATES POSTAL SERVICE

Sunshine Act Meeting

TIMES AND DATES: 1:00 p.m., Monday, June 5, 2000; 8:30 a.m., Tuesday, June 6, 2000.

PLACE: Philadelphia, Pennsylvania, at the Four Seasons Hotel, One Logan Square, in the North Ballroom.

STATUS: June 5 (Closed); June 6 (Open).

MATTERS TO BE CONSIDERED:

Monday, June 5-1:00 p.m. (Closed)

1. Strategic Planning.

2. Postal Rate Commission Opinion and Recommended Decision in Docket No. C99-4, Complaint of Continuity Shippers Association.

3. eBusiness Approval Process.

4. Financial Performance.

5. Office of Inspector General Midyear Budget and Performance Results.

6. Compensation Issues.

7. Personnel Matters.

Tuesday, June 6-8:30 a.m. (Open)

1. Minutes of the Previous Meeting, May 1-2, 2000.

2. Remarks of the Postmaster General/Chief Executive Officer.

3. Cycling Team.

4. Audit Committee Charter.

5. Briefing on Information Platform.

6. Capital Investments.

a. Recognition Improvement Program.

b. Phoenix, Arizona, Priority Mail—Postal Processing Center.

7. Report on the Philadelphia Performance Cluster.

8. Tentative Agenda for the July 10-11, 2000, meeting in Washington, D.C.

CONTACT PERSON FOR MORE INFORMATION: David G. Hunter, Assistant Secretary of the Board, U.S. Postal Service, 475 L'Enfant Plaza, S.W., Washington, D.C. 20260-1000. Telephone (202) 268-4800.

David G. Hunter,
Assistant Secretary.

[FR Doc. 00-13308 Filed 5-23-00; 2:28 pm]

BILLING CODE 7710-12-M